DEPARTMENT OF HEALTH AND HUMAN SERVICES

Administration for Children and Families

Submission for OMB Review; Comment Request

Title: Performance Measurement On-Line Tool (PMOTOOL).

OMB No.: New Collection.

Description: The Performance Measurement On-Line Tool (PMOTOOL) was designed by the Children's Bureau to collect data, in an automated format, from specified discretionary grants funded by the Children's Bureau. The data collected by this instrument will be submitted by individual discretionary grantees funded under the following programs: Abandoned Infants Assistance Program, Infant Adoption Awareness Program, Adoption Opportunities Program, Child Abuse and Neglect Program and the Child Welfare Training Program. Grantees will submit this information on semi-annual basis in conjunction with their semi-annual program progress report.

The purpose of this data collection is to assist the Children's Bureau in responding to the government wide performance effort to collect aggregate data over time to assess program progress on discretionary funded programs. The Performance Measurement ON-Line Tool (PMOTOOL) will focus on quantifiable outcome measures that are directly related to the expected social impact or public benefit of each federal program. These measurable outcomes will serve as evidence that the federally funded programs are making progress toward achieving broad, legislated program goals.

Respondents: Selected clusters of competitive grant program funded by the Children's Bureau.

Annual Burden Estimated
Instrument | Number of respondents | Number of responses per respondent | Average burden hours per response | Total burden hours
Performance Measurement On-Line Tool | Abandoned Infants Assistance Program Estimate 20 | 2 per fiscal year | One hour per response field | Estimate 40.
Performance Measurement On-Line Tool | Infant Adoption Awareness Program Estimate 6 | 2 per fiscal year | One hour per response field | Estimate 12.
Performance Measurement On-Line Tool | Adoption Opportunities Program Estimate 45 | 2 per fiscal year | One hour per response field | Estimate 90.
Performance Measurement On-Line Tool | Child Abuse and Neglect Program Estimate 30 | 2 per fiscal year | One hour per response field | Estimate 60.
Performance Measurement On-Line Tool | Child Welfare Training Program Estimate 40 | 2 per fiscal year | One hour per response field | Estimate 80.

Estimated Total Annual Burden Hours: 282.

Additional Information: Copies of the proposed collection may be obtained by writing to the Administration for Children and Families, Office of Administration, Office of Information Services, 370 L'Enfant Promenade, SW., Washington, DC 20447, Attn: ACF Reports Clearance Officer. All requests should be identified by the title of the information collection. Email address: infocollection@acf.hhs.gov.

OMB Comment: OMB is required to make a decision concerning the collections of information between 30 and 60 days after publication of this document in the Federal Register. Therefore, a comment is best assured of having its full effect if OMB receives it within 30 days of publication. Written comments should be sent directly to the following: Office of Management and Budget, Paperwork Reduction Project, Fax: 202-395-6974, Attn: Desk Officer for the Administration for Children and Families.

Robert Sargis,
Reports Clearance Officer.

[FR Doc. 2012-16235 Filed 7-2-12; 8:45 am]

BILLING CODE 4184-01-P